DEPARTMENT OF TRANSPORTATION

Federal Aviation Administration

14 CFR Part 39

[Docket No. FAA-2008-0909; Directorate Identifier 2007-NM-363-AD]

RIN 2120-AA64

Airworthiness Directives; BAE SYSTEMS (Operations) Limited Model BAe 146 Airplanes and Model Avro 146-RJ Airplanes

AGENCY: Federal Aviation Administration (FAA), Department of Transportation (DOT).

ACTION: Supplemental notice of proposed rulemaking (NPRM); reopening of comment period.

SUMMARY: The FAA is revising an earlier NPRM for an airworthiness directive (AD) that applies to all Model BAe 146 airplanes and Model Avro 146-RJ airplanes. The original NPRM would have superseded an existing AD that currently requires revising the Airworthiness Limitations Section (ALS) of the Instructions for Continued Airworthiness to incorporate life limits for certain items and inspections to detect fatigue cracking in certain structures. The original NPRM proposed to require incorporating new and more restrictive life limits for certain items and for certain inspections to detect fatigue cracking in certain structures. The original NPRM resulted from issuance of a later revision to the airworthiness limitations. This new action revises the original NPRM by proposing to require revisions to the airworthiness limitations to include Critical Design Configuration Control Limitations for the fuel system. We are proposing this supplemental NPRM to ensure that fatigue cracking of certain structural elements is detected and corrected, and to prevent ignition sources in the fuel tanks; fatigue cracking of certain structural elements could adversely affect the structural integrity of these airplanes.

DATES: We must receive comments on this supplemental NPRM by April 5, 2010.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact BAE Regional Aircraft, 13850 McLearen Road, Herndon, Virginia 20171; telephone 703-736-1080; e-mail raebusiness@baesystems.com; Internet http://www.baesystems.com/Businesses/RegionalAircraft/index.htm. You may review copies of the referenced service information at the FAA, Transport Airplane Directorate, 1601 Lind Avenue, SW., Renton, Washington. For information on the availability of this material at the FAA, call 425-227-1221 or 425-227-1152.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Todd Thompson, Aerospace Engineer, International Branch, ANM-116, FAA, Transport Airplane Directorate, 1601 Lind Avenue, SW., Renton, Washington 98057-4056; telephone (425) 227-1175; fax (425) 227-1149.

SUPPLEMENTARY INFORMATION:

Comments Invited

We invite you to send any written relevant data, views, or arguments about this proposed AD. Send your comments to an address listed under the ADDRESSES section. Include “Docket No. FAA-2008-0909; Directorate Identifier 2007-NM-363-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

The FAA issued a notice of proposed rulemaking (NPRM) (the “original NPRM”) to amend 14 CFR part 39 to include an AD that supersedes AD 2005-23-12, amendment 39-14370 (70 FR 70483, November 22, 2005). The existing AD applies to all BAE SYSTEMS (Operations) Limited Model BAe 146 airplanes and Model Avro 146-RJ airplanes. The original NPRM was published in the Federal Register on August 26, 2008 (73 FR 50248). The original NPRM proposed to supersede the existing AD to continue to require revising the Airworthiness Limitations Section (ALS) of the Instructions for Continued Airworthiness to incorporate life limits for certain items and inspections to detect fatigue cracking in certain structures. The original NPRM also proposed to require revising the ALS of the Instructions for Continued Airworthiness to incorporate new and more restrictive life limits for certain items and new and more restrictive inspections to detect fatigue cracking in certain structures.

Actions Since Original NPRM Was Issued

Since we issued the original NPRM, the European Aviation Safety Agency (EASA), which is the Technical Agent for the Member States of the European Community, has issued EASA Airworthiness Directive (AD) 2009-0215, dated October 7, 2009. That EASA AD supersedes EASA AD 2009-0020, dated February 5, 2009, which superseded EASA AD 2008-0132, dated July 16, 2008; EASA AD 2008-0132 superseded EASA AD 2007-0271, dated October 16, 2007. That EASA AD was referenced in the original NPRM.

EASA AD 2008-0132, dated July 16, 2008, states that a new sub-chapter, 05-15-00, has been issued for the BAE SYSTEMS (Operations) Limited BAe 146 Series/Avro146-RJ Series Aircraft Maintenance Manual (AMM). Sub-chapter 05-15-00 is titled “Critical Design Configuration Control Limitations (CDCCL)—Fuel System Description and Operation.”

In addition, EASA AD 2009-0020, dated February 5, 2009, states that Sub-chapter 05-20-00, titled “Scheduled Maintenance,” now includes references to the following BAE SYSTEMS (Operations) Limited BAe146 Series/Avro146-RJ Series support documents: Maintenance Review Board Report (MRBR), Corrosion Prevention and Control Program (CPCP), and Supplemental Structural Inspection Document (SSID). We have included Notes 2, 3, 4, and 5 of this supplemental NPRM to refer to the sub-chapters and related support documents.

In addition, we have revised paragraph (h) of this supplemental NPRM (paragraph (g) of the original NPRM) to remove reference to Section 05-10 and 05-20 of Chapter 5 of the BAE SYSTEMS (Operations) Limited BAe146 Series/Avro146-RJ Series AMM. However, we have provided references to certain sub-chapters of Chapter 5 of the BAE SYSTEMS (Operations) Limited BAe146 Series/Avro146-RJ Series AMM as a source of information for complying with the proposed requirements of paragraph (h) of this supplemental NPRM.

Also, we have revised paragraph (h) of this supplemental NPRM (paragraph (g) of the original NPRM) to refer to “Chapter 5 of the BAE SYSTEMS (Operations) Limited BAe146 Series/Avro146-RJ Series Aircraft Maintenance Manual,” instead of “the ALS of the Instructions for Continued Airworthiness” as it was referred to in the original NPRM.

We have also added new paragraph (d) to this supplemental NPRM to specify the Air Transport Association (ATA) of America code identifying the subject, and re-identified the subsequent paragraphs accordingly.

Relevant Service Information

BAE SYSTEMS (Operations) Limited has issued Revision 97, dated July 15, 2009, to Sections 05-10, 05-15, and 05-20 of the BAE SYSTEMS (Operations) Limited BAe146 Series/Avro146-RJ Series AMM, which includes the CDCCLs. The CDCCLs provide instructions to retain critical ignition source prevention features during configuration changes that may be caused by modification, repair, or maintenance actions.

Messier-Dowty has issued Service Bulletin 146-32-171, dated August 11, 2009, which is an optional action to extend the life limits of the main landing gear. We have added paragraph (j) to this supplemental NPRM to specify doing the service bulletin for extending the life limits of the main landing gear main fitting from 32,000 landings to 50,000 landings on the main fitting, and re-identified the subsequent paragraphs accordingly.

The EASA mandated the service information and issued Airworthiness Directive 2009-0215, dated October 7, 2009, to ensure the continued airworthiness of these airplanes in the European Union.

Comments

We gave the public the opportunity to participate in developing this AD. We received no comments on the NPRM or on the determination of the cost to the public.

FAA's Determination and Proposed Requirements of the Supplemental NPRM

Some of the changes discussed above expand the scope of the original NPRM; therefore, we have determined that it is necessary to reopen the comment period to provide additional opportunity for public comment on this supplemental NPRM.

Explanation of Change to Costs of Compliance

Since issuance of the original NPRM, we have increased the labor rate used in the Costs of Compliance from $80 per work-hour to $85 per work-hour. The Costs of Compliance information, below, reflects this increase in the specified hourly labor rate.

Costs of Compliance

The following table provides the estimated costs for U.S. operators to comply with this proposed AD.

Estimated Costs
Action | Work hours | Average labor rate per hour | Parts | Cost per airplane | Number of U.S.- registered airplanes | Fleet cost
ALS Revision (required by AD 2005-23-12) | 1 | $85 | None | $85 | 1 | $85
ALS Revision (new proposed action) | 1 | 85 | None | 85 | 1 | 85

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this supplemental NPRM and placed it in the AD docket. See the ADDRESSES section for a location to examine the regulatory evaluation.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14370 (70 FR 70483, November 22, 2005) and adding the following new airworthiness directive (AD):

BAE SYSTEMS (Operations) Limited: Docket No. FAA-2008-0909; Directorate Identifier 2007-NM-363-AD.

Comments Due Date

(a) The FAA must receive comments on this AD action by April 5, 2010.

Affected ADs

(b) This AD supersedes AD 2005-23-12, amendment 39-14370.

Applicability

(c) This AD applies to all BAE SYSTEMS (Operations) Limited Model BAe 146-100A, -200A, and -300A series airplanes; and Model Avro 146-RJ70A, 146-RJ85A, and 146-RJ100A airplanes; certificated in any category.

Note 1: This AD requires revisions to certain operator maintenance documents to include new inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance (AMOC) according to paragraph (k) of this AD. The request should include a description of changes to the required inspections that will ensure the continued operational safety of the airplane.

Subject

(d) Air Transport Association (ATA) of America Code 05.

Unsafe Condition

(e) This AD results from issuance of a later revision to the airworthiness limitations of the BAE SYSTEMS (Operations) Limited BAe146 Series/Avro146-RJ Series Aircraft Maintenance Manual (AMM), which specifies new inspections and compliance times for inspection and replacement actions. We are issuing this AD to ensure that fatigue cracking of certain structural elements is detected and corrected, and to prevent ignition sources in the fuel tanks; fatigue cracking of certain structural elements could adversely affect the structural integrity of these airplanes.

Compliance

(f) You are responsible for having the actions required by this AD performed within the compliance times specified, unless the actions have already been done.

Restatement of Certain Requirements of AD 2005-23-12

Airworthiness Limitations Revision

(g) Within 30 days after December 27, 2005 (the effective date of AD 2005-23-12), revise the Airworthiness Limitations Section (ALS) of the Instructions for Continued Airworthiness to incorporate new and more restrictive life limits for certain items and new and more restrictive inspections to detect fatigue cracking in certain structures, in accordance with a method approved by the Manager, International Branch, ANM-116, Transport Airplane Directorate, FAA; or the Civil Aviation Authority (or its delegated agent).

New Requirements of This AD

New Airworthiness Limitations Revisions

(h) Within 90 days after the effective date of this AD, revise Chapter 5 of the BAE SYSTEMS (Operations) Limited BAe146 Series/Avro146-RJ Series AMM to incorporate new and more restrictive life limits for certain items and new and more restrictive inspections to detect fatigue cracking in certain structures, and to add fuel system Critical Design Configuration Control Limitations (CDCCL) to prevent ignition sources in the fuel tanks, in accordance with a method approved by the Manager, International Branch, ANM-116, Transport Airplane Directorate, FAA; or the European Aviation Safety Agency (EASA) (or its delegated agent). Incorporating the new and more restrictive life limits and inspections into the ALS terminates the requirements of paragraph (g) of this AD, and after incorporation has been done, the limitations required by paragraph (g) of this AD may be removed from the ALS.

Note 2: Guidance on revising Chapter 5 of the BAE SYSTEMS (Operations) Limited BAe146 Series/Avro146-RJ Series AMM, Revision 97, dated July 15, 2009, can be found in the applicable subchapters listed in Table 1 of this AD.

Table 1—Applicable AMM Sub-Chapters
AMM sub-chapter | Subject
05-10-01 | Airframe Airworthiness Limitations before Life Extension Programme.
05-10-05 ¹ | Airframe Airworthiness Limitations, Life Extension Programme Landings Life Extended.
05-10-10 ² | Airframe Airworthiness Limitations, Life Extension Programme Calendar Life Extended.
05-10-15 | Aircraft Equipment Airworthiness Limitations.
05-10-17 | Power Plant Airworthiness Limitations.
05-15-00 | Critical Design Configuration Control Limitations (CDCCL)—Fuel System Description and Operation.
05-20-00 ³ | Scheduled Maintenance.
05-20-01 | Airframe Scheduled Maintenance—Before Life Extension Programme.
05-20-05 ¹ | Airframe Scheduled Maintenance—Life Extension Programme Landings Life Extended.
05-20-10 ² | Airframe Scheduled Maintenance—Life Extension Programme Calendar Life Extended.
05-20-15 | Aircraft Equipment Scheduled Maintenance.
¹ Applicable only to aircraft post-modification HCM20011A or HCM20012A or HCM20013A.
² Applicable only to aircraft post-modification HCM20010A.
³ Paragraphs 5 and 6 only, on the Corrosion Prevention and Control Program (CPCP) and the Supplemental Structural Inspection Document (SSID).

Note 3: Sub-chapter 05-15-00 of the BAE SYSTEMS (Operations) Limited BAe146 Series/Avro146-RJ Series AMM, is the CDCCL.

Note 4: Within Sub-chapter 05-20-00 of the BAE SYSTEMS (Operations) Limited BAe146 Series/Avro146-RJ Series AMM, the relevant issues of the support documents are as follows: BAE SYSTEMS (Operations) Limited BAe 146 Series/Avro 146-RJ Corrosion Prevention and Control Program Document CPCP-146-01, Revision 3, dated July 15, 2008, including BAE SYSTEMS (Operations) Limited Temporary Revision (TR) 2.1, dated December 2008; and BAE SYSTEMS (Operations) Limited BAe146 Series Supplemental Structural Inspection Document SSID-146-01, Revision 1, dated June 15, 2009.

Note 5: Within Sub-chapter 05-20-01 of the BAE SYSTEMS (Operations) Limited BAe146 Series/Avro146-RJ Series AMM, the relevant issue of BAE SYSTEMS (Operations) Limited BAe 146/Avro 146-RJ Maintenance Review Board Report Document MRB 146-01, Issue 2, is Revision 15, dated March 2009 (mis-identified in EASA AD 2009-0215, dated October 7, 2009, as being dated May 2009).

Note 6: Notwithstanding any other maintenance or operational requirements, components that have been identified as airworthy or installed on the affected airplanes before the revision of the ALS, as required by paragraphs (g) of this AD; or before revision of Chapter 5 of the AMM, as required by paragraph (h) of this AD; do not need to be reworked in accordance with the CDCCLs. However, once the ALS or AMM has been revised, future maintenance actions on these components must be done in accordance with the CDCCLs.

(i) Except as specified in paragraph (k) of this AD: After the actions specified in paragraph (g) or (h) of this AD have been accomplished, no alternative inspections or inspection intervals may be approved for the structural elements specified in the documents listed in paragraph (g) or (h) of this AD.

(j) Modifying the main fittings of the main landing gear in accordance with Messier-Dowty Service Bulletin 146-32-171, dated August 11, 2009, extends the safe limit of the main landing gear main fitting from 32,000 landings to 50,000 landings on the main fitting.

Alternative Methods of Compliance (AMOCs)

(k) The Manager, International Branch, ANM-116, Transport Airplane Directorate, FAA, has the authority to approve AMOCs for this AD, if requested using the procedures found in 14 CFR 39.19. Send information to ATTN: Todd Thompson, Aerospace Engineer, International Branch, ANM-116, FAA, Transport Airplane Directorate, 1601 Lind Avenue, SW., Renton, Washington 98057-4056; telephone (425) 227-1175; fax (425) 227-1149. Before using any approved AMOC on any airplane to which the AMOC applies, notify your principal maintenance inspector (PMI) or principal avionics inspector (PAI), as appropriate, or lacking a principal inspector, your local Flight Standards District Office. The AMOC approval letter must specifically reference this AD.

Related Information

(l) EASA Airworthiness Directive 2009-0215, dated October 7, 2009; and Messier-Dowty Service Bulletin 146-32-171, dated August 11, 2009; also address the subject of this AD.

Issued in Renton, Washington, on March 2, 2010.
Suzanne Masterson,
Acting Manager, Transport Airplane Directorate, Aircraft Certification Service.

[FR Doc. 2010-5016 Filed 3-8-10; 8:45 am]

BILLING CODE 4910-13-P